FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 4, 2000.

A. Federal Reserve Bank of Atlanta (Cynthia C. Goodwin, Vice President) 104 Marietta Street, N.W., Atlanta, Georgia 30303-2713:1.

1. Nancy Barr Dixon, Eufaula, Alabama; Michael Charles Dixon, Sr., Eufaula, Alabama; Hope Cotton Dixon, Eufaula, Alabama; Michael Charles Dixon, Jr., Eufaula, Alabama; Claudia Dixon Balkcom, Atlanta, Georgia; Heather Barr Dixon, Eufaula, Alabama; Marian Christine Dixon, Birmingham, Alabama; Rebecca Janie Mac Dixon, Auburn, Alabama; Robert Mack Dixon, Eufaula, Alabama; Mary Elliott Dixon, Eufaula, Alabama; Mary Clayton Dixon, Eufaula, Alabama; Eric Ross Fenichel, Atlanta, Georgia; Janie Dixon King, Eufaula, Alabama; William Daniel King, Eufaula, Alabama; Robert Mack Dixon, Jr., Eufaula, Alabama; Preston Copeland Dixon, Birmingham, Alabama; James Franklin Dixon, III, Birmingham, Alabama; Rita Hallett Dixon, Birmingham, Alabama; Thomas Seay Lawson, Jr., Montgomery, Alabama; Sarah Clayton Lawson, Montgomery, Alabama; and Preston Copeland Clayton, Jr., Eufaula, Alabama; all to retain voting shares of Eufaula BancCorp, Inc., Eufaula, Alabama, and thereby indirectly retain voting shares of Southern Bank of Commerce, Eufaula, Alabama.

B. Federal Reserve Bank of Kansas City (D. Michael Manies, Assistant Vice President) 925 Grand Avenue, Kansas City, Missouri 64198-0001:

1. William Edwin Shoemaker, Cambridge, Nebraska; to acquire voting shares of FNB Financial Services, Inc., Cambridge, Nebraska, and thereby indirectly acquire voting shares of The First National Bank of Cambridge, Cambridge, Nebraska.

C. Federal Reserve Bank of San Francisco (Maria Villanueva, Consumer Regulation Group) 101 Market Street, San Francisco, California 94105-1579:

1. David B. and Mary T. Weyrich, Paso Robles, California; to acquire additional voting shares of Heritage Oaks Bancorp, Paso Robles, California, and thereby indirectly acquire additional voting shares of Heritage Oaks Bank, Paso Robles, California.

Board of Governors of the Federal Reserve System, November 14, 2000.
Robert deV. Frierson,
Associate Secretary of the Board.

[FR Doc. 00-29525 Filed 11-16-00; 8:45 am]

BILLING CODE 6210-01-P